DEPARTMENT OF ENERGY

Federal Energy Regulatory Commission

[Docket No. ER01-833-000, et al.]

Pacific Gas and Electric Company, et al.; Electric Rate and Corporate Regulation Filings

November 1, 2001.

Take notice that the following filings have been made with the Commission:

1. Pacific Gas and Electric Company

[Docket No. ER01-833-000]

Take notice that on October 29, 2001, Pacific Gas and Electric Company (PG&E) tendered for filing with the Federal Energy Regulatory Commission (Commission) a Further Request for Deferral of Consideration of the unexecuted Wholesale Distribution Tariff (WDT) Service Agreement and Interconnection Agreement between Pacific Gas and Electric Company and Modesto Irrigation District (MID) filed in FERC Docket No. ER01-833-000 on December 29, 2000. PG&E and Modesto are finalizing the WDT Service Agreement and a letter agreement for review and signature, and PG&E therefore is notifying the Commission that executed agreements will not be filed by October 29, 2001, the requested deferral date. PG&E requests that the Commission defer consideration of the proceedings filed in ER01-833-000 to November 30, 2001, 31 days beyond the last request for Deferral in order that the parties may finalize and execute the Agreements.

Copies of this filing have been served upon MID, the California Independent System Operator Corporation, and the California Public Utilities Commission.

Comment date: November 19, 2001, in accordance with Standard Paragraph E at the end of this notice.

2. Cinergy Services, Inc.; The Cincinnati Gas & Electric Company; PSI Energy, Inc.; and Cinergy Power Investments, Inc.

[Docket No. ER02-177-000]

Take notice that on October 29, 2001, Cinergy Services, Inc., The Cincinnati Gas & Electric Company, PSI Energy, Inc. and Cinergy Power Investments, Inc., tendered for filing with the Federal Energy Regulatory Commission (Commission) an Application For Various Approvals Under Section 205 of the FPA. Copies of this filing have been served on the Public Utilities Commission of Ohio, the Kentucky Public Service Commission and the Indiana Utility Regulatory Commission.

Comment date: November 19, 2001, in accordance with Standard Paragraph E at the end of this notice.

3. The Cincinnati Gas & Electric Company

[Docket No. ER02-178-000]

Take notice that on October 29, 2001, The Cincinnati Gas & Electric Company (CG&E) tendered for filing with the Federal Energy Regulatory Commission (Commission) a Notice of Cancellation, pursuant to 18 CFR 35.15 (2001), in order to reflect the termination of the Electric Service Agreement, dated October 3, 1991, between CG&E and The Union Light, Heat and Power Company (ULH&P), filed under the CG&E FPC Electric Tariff, Rate WS-P. Copies of this filing have been served on the only affected purchaser, ULH&P.

Comment date: November 19, 2001, in accordance with Standard Paragraph E at the end of this notice.

4. The Cincinnati Gas & Electric Company

[Docket No. ER02-179-000]

Take notice that on October 29, 2001, The Cincinnati Gas & Electric Company (CG&E) tendered for filing with the Federal Energy Regulatory Commission (Commission) a Power Sales Agreement between CG&E and The Union Light, Heat and Power Company (ULH&P). Copies of this filing have been served on ULH&P.

Comment date: November 19, 2001, in accordance with Standard Paragraph E at the end of this notice.

5. Southwest Power Pool, Inc.

[Docket No. ER02-180-000]

Take notice that on October 29, 2001, Southwest Power Pool, Inc. (SPP) submitted for filing with the Federal Energy Regulatory Commission (Commission) two executed service agreements for Firm Point-to-Point Transmission Service with Sempra Energy Trading Corporation and with Tex-La Electric Cooperative (collectively, Transmission Customers). SPP requests an effective date of January 1, 2002 for these service agreements.

Copies of this filing have been served on the Transmission Customers.

Comment date: November 19, 2001, in accordance with Standard Paragraph E at the end of this notice.

6. Avista Corporation

[Docket No. ER02-182-000]

Take notice that Avista Corporation, on October 29, 2001, tendered for filing with the Federal Energy Regulatory Commission (Commission) pursuant to section 35.12 of the Commissions, 18 CFR part 35.12, an executed Mutual Netting Agreement with IDACORP Energy L. P. effective 10/01/2001 under Rate Schedule FERC No. 289.

Notice of the filing has been served to the IDACORP Energy L.P. in Boise, Idaho and their credit manager.

Comment date: November 19, 2001, in accordance with Standard Paragraph E at the end of this notice.

7. New England Power Pool

[Docket No. ER02-183-000]

Take notice that on October 29, 2001, the New England Power Pool (NEPOOL) Participants Committee submitted the Eightieth Agreement Amending New England Power Pool Agreement (Eightieth Agreement), which proposes changes to the Restated NEPOOL Agreement and the New England Power Pool Billing Policy in connection with a generation information system certificate and database system to be implemented for the NEPOOL Control Area.

The NEPOOL Participants Committee states that copies of these materials were sent to the NEPOOL Participants, Non-Participant Transmission Customers and the New England state governors and regulatory commissions.

Comment date: November 19, 2001, in accordance with Standard Paragraph E at the end of this notice.

8. Delmarva Power & Light Company

[Docket No. ER02-184-000]

Take notice that Delmarva Power & Light Company, on October 29, 2001, tendered for filing with the Federal Energy Regulatory Commission (Commission) First Revised Rate Schedule FERC No. 99 (Revised Rate Schedule) between Delmarva and the City of Seaford, Delaware. Delmarva requests that the Commission waive its notice of filing requirements to allow the Revised Rate Schedule to become effective retroactively as of January 1, 2000 because the revisions provide for a reduction in rates.

Copies of the filing were served upon the City of Seaford, Delaware and the Delaware Public Service Commission.

Comment date: November 19, 2001, in accordance with Standard Paragraph E at the end of this notice.

9. New England Power Pool

[Docket No. ER02-185-000]

Take notice that on October 29, 2001, the New England Power Pool (NEPOOL) Participants Committee submitted a filing with the Federal Energy Regulatory Commission (Commission) requesting the approval of proposed changes to section 5.3.2(d) of Market Rule & Procedure 5 that amend the formula used to calculate whether a Generator is operating at its Desired Dispatch Point.

The NEPOOL Participants Committee states that copies of these materials were sent to the New England state governors and regulatory commissions and the Participants in the New England Power Pool.

Comment date: November 19, 2001, in accordance with Standard Paragraph E at the end of this notice.

10. Xcel Energy Services Inc.

[Docket No. ER02-186-000]

Take notice that on October 29, 2001, Xcel Energy Services Inc. (XES), on behalf of Southwestern Public Service (SPS), submitted for filing with the Federal Energy Regulatory Commission (Commission) an Interconnection Agreement between SPS and Sunflower Electric Power Corporation.

SPS requests that the Commission accept the agreement effective October 1, 2001, and requests waiver of the Commission's notice requirements in order for the agreements to be accepted for filing on the date requested.

Comment date: November 19, 2001, in accordance with Standard Paragraph E at the end of this notice.

11. Progress Energy on Behalf of Florida Power Corporation

[Docket No. ER02-187-000]

Take notice that on October 29, 2001, Florida Power Corporation (FPC) filed an Amendment to the Service Agreement with The City of Homestead under FPC's Cost-Based Rates Tariff (CR-1), FERC Electric Tariff No. 9. A copy of this filing was served upon the Florida Public Service Commission and the North Carolina Utilities Commission.

FPC is requesting an effective date of October 2, 2001 for this Amendment.

Comment date: November 19, 2001, in accordance with Standard Paragraph E at the end of this notice.

12. Geysers Power Company, LLC

[Docket No. ER02-188-000]

Take notice that on October 30, 2001, Geysers Power Company, LLC, tendered for filing with the Federal Energy Regulatory Commission (Commission) an information package in compliance with Schedule F of each of the Must-Run Service Agreements, dated June 1, 1999, with the California Independent System Operator Corporation, for Geysers Main and Geysers Units 13 and 16.

Comment date: November 20, 2001, in accordance with Standard Paragraph E at the end of this notice.

13. Fresno Cogeneration Partners, L.P.

[Docket No. ER02-189-000]

Take notice that on October 30, 2001, Fresno Cogeneration Partners, L.P. (Applicant), tendered for filing with the Federal Energy Regulatory Commission (Commission) under its market-based rate tariff a long-term service agreement with the California Department of Water Resources.

Comment date: November 20, 2001, in accordance with Standard Paragraph E at the end of this notice.

14. American Transmission Company LLC

[Docket No. ER02-190-000]

Take notice that on October 30, 2001, American Transmission Company LLC (ATCLLC) tendered for filing with the Federal Energy Regulatory Commission (Commission) an unexecuted Network Operating Agreement and an unexecuted Revised Network Integration Service Agreement for Dairyland Power Cooperative. ATCLLC requests an effective date of October 1, 2001.

Comment date: November 20, 2001, in accordance with Standard Paragraph E at the end of this notice.

15. Southwest Power Pool, Inc.

[Docket No. ER02-191-000]

Take notice that on October 30, 2001, Southwest Power Pool, Inc. (SPP) submitted for filing one executed service agreement for Firm Point-to-Point Transmission Service with Reliant Energy Services, Inc., and four executed service agreements for Firm Point-to-Point Transmission Service with Tenaska Power Services Company (collectively, Transmission Customers).

SPP requests an effective date of October 1, 2001 for these service agreements.

Copies of these filings were served on the Transmission Customers.

Comment date: November 20, 2001, in accordance with Standard Paragraph E at the end of this notice.

16. Northern Iowa Windpower LLC

[Docket No. ER02-192-000]

Take notice that on October 30, 2001, Northern Iowa Windpower LLC (Northern Iowa), 1001 McKinney, Suite 1740 Houston, Texas 77002, filed with the Federal Energy Regulatory Commission (Commission) the Top of Iowa Wind Project Renewable Energy Power Purchase Agreement by and between Northern Iowa and Wisconsin Power and Light Company (Wisconsin P&L), as assignee, dated as of February 23, 2001, as amended by the First Amendment to the Top of Iowa Wind Project Renewable Energy Power Purchase Agreement, dated as of July 17, 2001 (PPA). The filing is made pursuant to Northern Iowa's authority to sell power at market-based rates under its Market-Based Rate Tariff, Rate Schedule No. 1, Original Volume No. 1, approved by the Commission on May 3, 2001 in Docket No. ER01-1570-000.

Comment date: November 20, 2001, in accordance with Standard Paragraph E at the end of this notice.

17. Central Maine Power Company

[Docket No. ER02-193-000]

Take notice that on October 26, 2001, Central Maine Power Company (CMP) filed tariff sheets for its open access transmission tariff revised to comply with the order of the Federal Energy Regulatory Commission, issued on September 26, 2001, in Docket No. EC01-97-000.

Comment date: November 16, 2001, in accordance with Standard Paragraph E at the end of this notice.

18. New York Independent System Operator, Inc.

[Docket No. ER02-194-000]

Take notice that on October 26, 2001, the New York Independent System Operator, Inc. (NYISO) submitted proposed tariff amendments to implement Interregional Transmission Pilot Program for generation redispatch in emergency conditions between the NYISO and the PJM Interconnection, L.L.C..

Comment date: November 16, 2001, in accordance with Standard Paragraph E at the end of this notice.

19. New York Independent System Operator, Inc.

[Docket No. ER02-195-000]

Take notice that on October 29, 2001, the New York Independent System Operator, Inc. (NYISO) tendered for filing with the Federal Energy Regulatory Commission (Commission), revisions to its Market Administration and Control Area Services Tariff (Services Tariff) to revise the tariff's definition of “Load Shedding.”

The NYISO has requested an effective date of December 28, 2001 for the filing.

The NYISO has served a copy of this filing upon all parties that have executed service agreements under the NYISO's Open Access Transmission Tariff and Services Tariff.

Comment date: November 19, 2001, in accordance with Standard Paragraph E at the end of this notice.

20. Ameren Services Company

[Docket No. ER02-196-000]

Take notice that on October 30, 2001, Ameren Services Company (Ameren Services), as agent for Central Illinois Public Service Company (d/b/a AmerenCIPS) and Union Electric Company (d/b/a AmerenUE), submitted an on an unexecuted basis an amended service agreement for Network Integrated Transmission Service and an amended Network Operating with the Illinois Municipal Energy Agency (IMEA), the transmission customer under the amended agreements.

Ameren Services requests an effective date of October 1, 2001 for these amended agreements. Ameren Services is filing these agreements on an unexecuted basis because it and IMEA have not yet executed the agreements, but seek to allow the service to commence on a timely basis as set forth in the agreements.

Copies of this filing were served upon IMEA and the Illinois Commerce Commission.

Comment date: November 20, 2001, in accordance with Standard Paragraph E at the end of this notice.

21. Tampa Electric Company

[Docket Nos. ER01-1895-003 and ER01-2485-002]

Take notice that on October 29, 2001, Tampa Electric Company (Tampa Electric) amended its September 27, 2001 compliance filing with the Federal Energy Regulatory Commission (Commission) in these dockets by submitting Original Sheet Nos. 6 and 7 for inclusion in Tampa Electric's Rate Schedule FERC No. 79. Tampa Electric states that the sheets contain a list of the existing Tampa Electric interchange rate schedules formerly supplemented by the Addendum Concerning Sulfur Dioxide Emissions Allowances that now comprises the independent Rate Schedule FERC No. 79.

A copy of the compliance filing has been served on each person designated on the official service lists in these dockets, each party to an affected interchange contract, and the Florida Public Service Commission.

Comment date: November 19, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27946 Filed 11-6-01; 8:45 am]

BILLING CODE 6717-01-P